SOCIAL SECURITY ADMINISTRATION

[Docket No. SSA 2006-0096]

Social Security Ruling (SSR) 94-4p.; Rescission of SSR 94-4p, Policy Interpretation Ruling; Title II of the Social Security Act and Title IV of the Federal Mine Safety and Health Act of 1977: Waiver of Recovery of Overpayments—Notice of Appeal and Waiver Rights—Right to a Pre-Recoupment Oral Hearing Before Waiver Can Be Denied

AGENCY: Social Security Administration.

ACTION: Notice of Rescission of SSR.

SUMMARY: In accordance with 20 CFR 402.35(b)(1), the Commissioner of Social Security gives notice of the rescission of SSR 94-4p.

EFFECTIVE DATE: January 11, 2008.

FOR FURTHER INFORMATION CONTACT: Robin Strauss, Social Insurance Specialist, Social Security Administration, Office of Income Security Programs, 252 Altmeyer Building, 6401 Security Boulevard, Baltimore, MD 21235-6401, (410) 965-7944 for information about this notice. For information on eligibility or filing for benefits, call our national toll-free number, 1-800-772-1213 or TTY 1-800-325-0778, or visit our Internet site, Social Security Online, at http://www.socialsecurity.gov.

SUPPLEMENTARY INFORMATION: SSRs make available to the public precedential decisions relating to the Federal old-age, survivors, disability and supplemental security income programs. SSRs may be based on case decisions made at all administrative levels of adjudication, Federal court decisions, Commissioner's decisions, opinions of the Office of the General Counsel, and other policy interpretations of the law and regulations.

On July 11, 1994, we issued SSR 94-4p which implemented the decisions in Buffington, et al. v. Schweiker and Califano v. Yamasaki, and provided that prior to the denial of waiver of recovery of an overpayment, SSA will conduct a face-to-face pre-recoupment hearing. SSR 94-4p stated our policy of:

• Giving adequate written notice of a determination of overpayment and the right to contest such determination and request waiver of recovery of the overpayment; and

• Providing the person from whom we are seeking recovery of an overpayment with the opportunity for a face-to-face oral hearing before we deny a request for waiver of recovery of the overpayment.

In 1996, 20 CFR 404.502a incorporated the provision of giving adequate written notice of a determination of overpayment and the right to contest such determination and request waiver of recovery of the overpayment. The provision of giving the opportunity for a hearing before we deny a request for waiver of recovery of the overpayment was incorporated into 20 CFR 404.506(e)(1), which states that the individual is given the opportunity to “appear personally” at the personal conference. Current regulations do not further specify the method in which this appearance may be made. Although our policy has been to provide a face-to-face appearance at the field office, this is not always convenient for the beneficiary. Often, if a beneficiary is not able to come to the face-to-face conference, field office personnel will go to the person to hold the conference. Offering additional appearance options for the conference would improve service to the beneficiaries and reduce costly home visits by field personnel.

In order to fulfill our stewardship responsibilities to the Social Security trust fund, we must employ methods that will simplify our personal conference procedures and use our resources most efficiently. We should be using all available technology when we conduct personal conferences. Therefore, elsewhere in this Federal Register, we published the final rule “Methods for Conducting Personal Conferences When Waiver of Recovery of a Title II or Title XVI Overpayment Cannot Be Approved” which revised the regulations to allow for personal conferences to be conducted face-to-face at a place we designate (usually in the field office), by telephone, or by video teleconference. Consequently, SSR 94-4p is obsolete and rescinded as of February 11, 2008.

(Catalog of Federal Domestic Assistance Program Nos. 96.001, Social Security—Disability Insurance; 96.002, Social Security—Retirement Insurance; 96.004, Social Security—Survivors Insurance; 17.307, Coal Mine Workers' Compensation)

Dated: November 30, 2007.
Michael J. Astrue,
Commissioner of Social Security.

[FR Doc. E8-313 Filed 1-10-08; 8:45 am]

BILLING CODE 4191-02-P